DEPARTMENT OF ENERGY

Federal Energy Regulatory Commission

Combined Notice of Filings #1

Take notice that the Commission received the following electric rate filings:

Docket Numbers: ER13-288-002.

Applicants: Entergy Arkansas, Inc.

Description: Entergy Arkansas, Inc. submits Att Y Ministerial Corrections to be effective 12/1/2012.

Filed Date: 11/22/13.

Accession Number: 20131122-5113.

Comments Due: 5 p.m. ET 12/13/13.

Docket Numbers: ER13-2109-001.

Applicants: Fowler Ridge Wind Farm LLC.

Description: Fowler Ridge Wind Farm LLC submits Compliance Filing—Amdmt to New Baseline Filing to be effective 8/5/2013.

Filed Date: 11/22/13.

Accession Number: 20131122-5067.

Comments Due: 5 p.m. ET 12/13/13.

Docket Numbers: ER13-2470-001.

Applicants: Arizona Public Service Company.

Description: Arizona Public Service Company submits APS MBR Tariff Authoiry to Add Clarification For Operating Reserves Sales to be effective 11/27/2013.

Filed Date: 11/22/13.

Accession Number: 20131122-5116.

Comments Due: 5 p.m. ET 12/13/13.

Docket Numbers: ER14-152-000; ER14-153-000; ER14-154-000.

Applicants: Elgin Energy Center, LLC, Gibson City Energy Center, LLC, Grand Tower Energy Center, LLC.

Description: Supplement to October 22, 2013 Elgin Energy Center, LLC et. al.

Filed Date: 11/22/13.

Accession Number: 20131122-5097.

Comments Due: 5 p.m. ET 12/13/13.

Docket Numbers: ER14-221-000.

Applicants: Covanta Haverhill Associates, LP.

Description: Covanta Haverhill Associates, LP submits the Second Supplement to October 29, 2013 tariff filing.

Filed Date: 11/21/13.

Accession Number: 20131121-5224.

Comments Due: 5 p.m. ET 12/12/13.

Docket Numbers: ER14-423-001.

Applicants: MidAmerican Energy Company.

Description: MidAmerican Energy Company submits Engineering & Procurement-Macksburg-Amendment to be effective 11/18/2013.

Filed Date: 11/22/13.

Accession Number: 20131122-5109.

Comments Due: 5 p.m. ET 12/13/13.

Docket Numbers: ER14-425-003.

Applicants: Midcontinent Independent System Operator, Inc.

Description: 11-19-2013 Agreements Re-Collation Part 2A to be effective 12/20/2013.

Filed Date: 11/21/13.

Accession Number: 20131121-5232.

Comments Due: 5 p.m. ET 12/12/13.

Docket Numbers: ER14-425-004.

Applicants: Midcontinent Independent System Operator, Inc.

Description: 11-19-2013 Agreements Re-Collation Part 2B to be effective 11/20/2013.

Filed Date: 11/21/13.

Accession Number: 20131121-5209.

Comments Due: 5 p.m. ET 12/12/13.

Docket Numbers: ER14-445-000.

Applicants: AEP Texas Central Company.

Description: TCC-Los Vientos Windpower III System Upgrade Agreement to be effective 10/28/2013.

Filed Date: 11/21/13.

Accession Number: 20131121-5162.

Comments Due: 5 p.m. ET 12/12/13.

Docket Numbers: ER14-446-000.

Applicants: Commonwealth Edison Company, PJM Interconnection, L.L.C.

Description: ComEd files PJM SA 3672 among ComEd and Ameren to be effective 11/21/2013.

Filed Date: 11/21/13.

Accession Number: 20131121-5202.

Comments Due: 5 p.m. ET 12/12/13.

Docket Numbers: ER14-447-000.

Applicants: Ameren Illinois Company.

Description: Ameren Illinois Company submits Revision to WVPA Meter Replacement Letter Agreement RS 141 to be effective 10/23/2013.

Filed Date: 11/22/13.

Accession Number: 20131122-5101.

Comments Due: 5 p.m. ET 12/13/13.

Docket Numbers: ER14-448-000.

Applicants: Southwest Power Pool, Inc.

Description: Southwest Power Pool, Inc. submits 607R20 Westar Energy, Inc. NITSA and NOA to be effective 11/1/2013.

Filed Date: 11/22/13.

Accession Number: 20131122-5111.

Comments Due: 5 p.m. ET 12/13/13.

Docket Numbers: ER14-449-000.

Applicants: Southern California Edison Company.

Description: Southern California Edison Company submits Notice of Cancellation of LGIA with SES Solar One, LLC to be effective 9/1/2013.

Filed Date: 11/22/13.

Accession Number: 20131122-5112.

Comments Due: 5 p.m. ET 12/13/13.

Docket Numbers: ER14-450-000.

Applicants: Southwest Power Pool, Inc.

Description: Southwest Power Pool, Inc. submits 1765R8 KCP&L-GMO NITSA and two NOAs to be effective 11/1/2013.

Filed Date: 11/22/13.

Accession Number: 20131122-5115.

Comments Due: 5 p.m. ET 12/13/13.

Take notice that the Commission received the following electric securities filings:

Docket Numbers: ES14-7-000.

Applicants: Commonwealth Edison Company.

Description: Supplement to October 28, 2013 Application of Commonwealth Edison Company under Section 204 of the Federal Power Act for the Authority to Issue Securities.

Filed Date: 11/21/13.

Accession Number: 20131121-5226.

Comments Due: 5 p.m. ET 12/2/13.

Take notice that the Commission received the following electric reliability filings:

Docket Numbers: RR13-9-001.

Applicants: North American Electric Reliability Corporation.

Description: Compliance Filing of the North American Electric Reliability Corporation in Response to Paragraph 23 of November 1, 2013 Commission Order.

Filed Date: 11/22/13.

Accession Number: 20131122-5051.

Comments Due: 5 p.m. ET 12/6/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 22, 2013.
Nathaniel J. Davis, Sr.,
Deputy Secretary.

[FR Doc. 2013-28802 Filed 12-2-13; 8:45 am]

BILLING CODE 6717-01-P